SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes a request for a new information collection and revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB) Office of Management and Budget, Attn: Desk Officer for SSA, Fax: 202-395-6974, E-mail address: OIRA_Submission@omb.eop.gov.

(SSA) Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than August 1, 2011. Individuals can obtain copies of the collection instruments by calling the SSA Reports Clearance Officer at 410-965-8783 or by writing to the above e-mail address.

1. Social Security's Public Credentialing and Authentication Process—20 CFR 401.45—0960-NEW. Social Security is introducing a stronger citizen authentication process that will enable a new user to experience and access more electronic services.

Background:

Authentication is the foundation for secure, online transactions. Identity authentication is the process of determining with confidence that people are who they claim to be during a remote, automated session. It comprises three distinct factors: something you know, something you have, and something you are. Single-factor authentication uses one of these factors, and multi-factor authentication uses two or more of these factors.

SSA's New Authentication Process:

Social Security's new process features credential issuance, account management, and single- and multi-factor authentication. With this process, we are working toward offering consistent authentication across Social Security's secured online services, and eventually to Social Security's automated telephone services. We will allow our users to maintain one User ID, consisting of a self-selected Username and Password, to access multiple Social Security electronic services. This new process: 1) enables the authentication of users of Social Security's sensitive electronic services, and 2) streamlines access to those services.

Social Security is developing a new authentication strategy that will:

• Issue a single User Identification (ID) for personal, business, and governmental transactions;

• Offer a variety of authentication options to meet the changing needs of the public;

• Partner with an external data provider to help us verify the identity of our online customers;

• Comply with relevant standards;

• Offer access to some of Social Security's more sensitive workloads online, while providing a high level of confidence in the identity of the person requesting access to these services;

• Offer an in-person process for those who are uncomfortable with or unable to use the Internet registration process; and

• Balance security with ease of use.

New Authentication Process Features:

SSA's new process will include the following key components: (1) Registration and identity verification, (2) enhancement of the User ID, and (3) authentication. The registration process is a one-time activity for the respondents. The respondent provides some personal information, and we use this to verify respondent identity. Respondents then select their User ID (Username & Password). Respondents will log in with this User ID each time they access SSA's online services. SSA will also allow respondents to increase the security of their credential by adding a second authentication factor.

Information SSA Will Request As Part of the Process:

SSA will ask for respondents' personal information, which may include:

• Name

• Social Security Number (SSN)

• Date of Birth

• Address—mailing and residential

• Telephone number

• Email address

• Financial information

• Cell phone number

• Responses to an identity quiz (multiple choice format questions keyed to specific data identity thieves will not be able to answer)

• Password reset questions

This collection of information, or a subset of it, is required for respondents who want to conduct business with Social Security via the Internet or our automated 800 number. We will collect this information via the Internet on SSA's public-facing website. We also offer an in-person identification verification process for individuals who cannot or are not willing to register online. We do not ask for financial information with the in-person process. In addition, if individuals opt for the enhanced or upgraded account, they will also receive a text message on their cell phones (this serves as the second factor for authentication) each time they log into SSA's online services.

Advantages of the New Authentication Strategy:

This new authentication strategy will provide a user-friendly way for the public to conduct extended business with Social Security online instead of visiting the local servicing office or requesting information over the phone. Individuals will have real-time access to their sensitive Social Security information in a safe and secured web environment.

Burden Information:

The respondents for this information collection request are individuals who choose to use the Internet or Automated Telephone Response System to conduct business with SSA.

Type of Request: Request for a new information collection.

Modality of completion | Number of respondents | Frequency of response | Average burden per response (minutes) | Total annual burden hours (hours)
Internet Requestors | 17,900,000 | 1 | 8 | 2,386,667
In-Person (Intranet) Requestors | 5,800,000 | 1 | 8 | 773,333
Totals | 23,700,000 |  |  | 3,160,000

2. Help America Vote Act—0960-0706. H.R. 3295, the Help America Vote Act of 2002, mandates that States verify the identities of newly registered voters. When newly registered voters do not have drivers' licenses or State-issued ID cards, they must supply the last four digits of their Social Security Number to their local State election agencies for verification. The election agencies forward this information to their State Motor Vehicle Administration (MVA), who inputs the data into the American Association of MVAs, a central consolidation system that routes the voter data to SSA's Help America Vote Verification (HAVV) system. Once SSA's HAVV system has confirmed the identity of the voter, the information will return along the same route in reverse until it reaches the State election agency. The official respondents for this collection are the State MVAs.

Type of Request: Revision of an OMB-approved information collection.

Number of Respondents: 2,352,204.

Frequency of Response: 1.

Average Burden per Response: 2 minutes.

Estimated Annual Burden: 78,407 hours.

II. SSA submitted the information collection below to OMB for clearance. Your comments regarding the information collection would be most useful if OMB and SSA receive them within 30 days from the date of this publication. To be sure we consider your comments, we must receive them no later than July 1, 2011. Individuals can obtain copies of the OMB clearance package by calling the SSA Reports Clearance Officer at 410-965-8783 or by writing to the above e-mail address.

Supplemental Security Income (SSI)—Quality Review Case Analysis—0960-0133. To assess the SSI program and ensure the accuracy of its payments, SSA conducts legally mandated periodic SSI case analysis quality reviews. SSA uses Form SSA-8505 to conduct these reviews, collecting information on operating efficiency, the quality of underlying policies, and the effect of incorrect payments. SSA also uses the data to determine SSI program payment accuracy rates, which is a performance measure for the agency's service delivery goals. The respondents are recipients of SSI payments selected for quality reviews.

Type of Request: Revision of an OMB-approved information collection.

Form | Number of respondents | Frequency of response | Average burden per response (minutes) | Estimated annual burden (hours)
SSA-8508-BK (paper interview) | 225 | 1 | 60 | 225
SSA-8508-BK (electronic) | 4,275 | 1 | 60 | 4,275
Totals | 4,500 |  |  | 4,500

Dated: May 25, 2011.
Faye Lipsky,
Reports Clearance Officer, Center for Reports Clearance, Social Security Administration.

[FR Doc. 2011-13409 Filed 5-31-11; 8:45 am]

BILLING CODE 4191-02-P